DEPARTMENT OF LABOR

Employment and Training Administration

[TA-W-62,183]

Hartmann, Inc., Lebanon, TN; Notice of Termination of Investigation

Pursuant to Section 221 of the Trade Act of 1974, an investigation was initiated on September 21, 2007 in response to a worker petition filed by a company official on behalf of workers at Hartmann, Inc., Lebanon, Tennessee.

The petitioner has requested that the petition be withdrawn. Consequently, the investigation has been terminated.

Signed at Washington, DC this 24th day of September, 2007.
Richard Church,
Certifying Officer, Division of Trade Adjustment Assistance.

[FR Doc. E7-19176 Filed 9-27-07; 8:45 am]

BILLING CODE 4510-FN-P